DEPARTMENT OF LABOR

Employment and Training Administration

[TA-W-55,798 and TA-W-55,798A]

The Sewing Source, Inc., Spring Hope, NC; and The Sewing Source, Inc., Louisburg, NC; Notice of Termination of Investigation

Pursuant to section 221 of the Trade Act of 1974, as amended, an investigation was initiated on October 14, 2004 in response to a petition filed by a company official on behalf of workers at The Sewing Source, Inc., Spring Hope, North Carolina (TA-W-55,798), and The Sewing Source, Inc., Louisburg, North Carolina (TA-W-55,798A).

The petitioner has requested that the petition be withdrawn. Consequently, the investigation has been terminated.

Signed at Washington, DC, this 3rd day of November, 2004.
Richard Church,
Certifying Officer, Division of Trade Adjustment Assistance.

[FR Doc. E4-3140 Filed 11-10-04; 8:45 am]

BILLING CODE 4510-30-P